DEPARTMENT OF ENERGY

Federal Energy Regulatory Commission

Notice of FERC Staff Attendance at Southwest Power Pool Independent Coordinator of Transmission (ICT) Stakeholder Policy Committee Meeting

September 10, 2008.

The Federal Energy Regulatory Commission hereby gives notice that members of its staff may attend the meeting noted below. Their attendance is part of the Commission's ongoing outreach efforts.

ICT Stakeholder Policy Committee Meeting: September 23, 2008 (9 a.m.-3 p.m. CST), Sheraton North Houston Hotel, 15700 John F. Kennedy Blvd., Houston, TX 77032.

The discussions may address matters at issue in the following proceedings:

Docket No. EL07-52—Louisiana Public Service Commission v. Entergy Services, Inc.

Docket No. OA07-32—Entergy Services, Inc.

Docket No. ER05-1065—Entergy Services, Inc.

Docket No. EL00-66—Louisiana Public Service Commission v. Entergy.

Docket No. EL95-33—Louisiana Public Service Commission v. Entergy.

Docket No. ER00-2854—Louisiana Public Service Commission v. Entergy.

Docket No. EL05-15—Arkansas Electric Cooperative, Corp. v. Entergy Arkansas, Inc.

Docket No. ER08-844—Entergy Services, Inc.

Docket No. EL01-88—Louisiana Public Service Commission v. Entergy.

Docket No. ER03-583—Entergy Services, Inc.

Docket No. ER08-879—Entergy Services, Inc.

Docket No. ER01-2214—Entergy Services, Inc.

Docket No. EL08-59—ConocoPhillips v. Entergy Services, Inc.

Docket No. EL08-60—Union Electric v. Entergy Services, Inc.

Docket No. OA08-92—Entergy Services, Inc.

Docket No. OA08-75—Entergy Services, Inc.

Docket No. OA08-59—Entergy Services, Inc.

Docket No. ER07-1252—Entergy Services, Inc.

Docket No. EL03-230—ExxonMobil v. Entergy.

Docket No. ER08-774—Entergy Services, Inc.

Docket No. ER08-1006—Entergy Services, Inc.

Docket No. ER08-1078—Entergy Services, Inc.

Docket No. ER08-1079—Entergy Services, Inc.

Docket No. ER08-1056—Entergy Services, Inc.

Docket No. ER08-1057—Entergy Services, Inc.

Docket No. ER08-682—Entergy Services. Inc.

Docket No. EL08-72—NRG Energy, Inc. v. Entergy Services, Inc.

Docket No. EL08-51—LPSC v. Entergy Services, Inc.

Docket No. EL08-84—AEEC v. Entergy Services, Inc.

Docket No. ER08-513—Entergy Services, Inc.

These meetings are open to the public.

For more information, contact Patrick Clarey, Office of Energy Market Regulation, Federal Energy Regulatory Commission at (317) 249-5937 or patrick.clarey@ferc.gov.

Kimberly D. Bose,
Secretary.

[FR Doc. E8-21581 Filed 9-15-08; 8:45 am]

BILLING CODE 6717-01-P